DEPARTMENT OF COMMERCE

National Oceanic and Atmospheric Administration

50 CFR Part 679

[Docket No. 990720198-9307-02; I.D. 070799B]

RIN 0648-AM36

Fisheries of the Exclusive Economic Zone Off Alaska; Maximum Retainable Bycatch Percentages, Gulf of Alaska; Correction

AGENCY: National Marine Fisheries Service (NMFS), National Oceanic and Atmospheric Administration (NOAA), Commerce.

ACTION: Final rule; correction.

SUMMARY: This document contains a correction to the final rule for maximum retainable bycatch (MRB) percentages for the Gulf of Alaska (GOA), which was published in the Federal Register on December 6, 1999.

DATES: Effective January 5, 2000.

FOR FURTHER INFORMATION CONTACT: Patsy A. Bearden, 907-586-7008.

SUPPLEMENTARY INFORMATION:

Background

A final rule was published in the Federal Register on December 6, 1999 (64 FR 68054), to revise MRB percentages for the GOA. A new column added to Table 10 to 50 CFR part 679 and two of its footnotes were revised to clarify the intent of the North Pacific Fishery Management Council. But some of the data contained in the cells of the new column have been misinterpreted by management and enforcement officials, the State of Alaska Department of Fish and Game, and the fishing industry.

In Table 10 as published December 6, 1999, if a value appears in the “SR/RE ERA” column, it was intended to indicate that when calculating the retainable incidental catch for the basis species of interest, the SR/RE=7 percentage value would be added to the aggregated rockfish category percentage value and under that circumstance the SR/RE would not be included also in the aggregated rockfish value. If no value “na” appears in the SR/RE column, it was intended to indicate that SR/RE may not be calculated separately for the basis species but rather is included in the aggregated rockfish value. The “na” was also used in Table 10 to indicate that the combination of basis species and incidental catch species was not applicable since the same species appeared in both places.

Confusion from the two meanings of the term “na” in Table 10 eventually resulted in the interpretation that “na” in the “SR/RE ERA” column meant “zero.” Zero retention means that no quantities of SR/RE could be retained when calculating incidental catch for a basis species. The result of this interpretation was that NMFS Enforcement and U.S. Coast Guard required that any incidental SR/RE brought in by fishermen with any basis species be discarded (and therefore wasted) and also issued a citation to the fisherman for retaining a species illegally. The fisherman in question suffered a possible fine plus loss of income from the SR/RE. In addition, the fisherman held the correct interpretation of SR/RE retention and suffered also the frustration and aggravation of doing the correct action supported by regulations and being penalized for it by NMFS.

Footnote “(²)” stated that “SR/RE rockfish is a separate category for the deep water complex only.” Because deep water complex was not defined in Table 10, it was not clear that deep water complex meant those basis species that had values=7 in the column “SR/RE ERA.”

Need for Correction

Because the abbreviated form of “not applicable” appearing in certain cells of the added column SE/RE, Table 10, has been misinterpreted and caused unnecessary industry costs and incorrect enforcement of SR/RE retention, it must be corrected.

Correction

1. In the final rule Revisions to Gulf of Alaska Retainable Bycatch Percentages published in 64 FR 68054, December 6, 1999, FR Doc. 99-31555, on page 68055, under TABLE 10 TO Part 679.-GULF OF ALASKA RETAINABLE PERCENTAGES, in the eleventh column under the heading Incidental Catch Species, under the column subheading “SR/RE ERA³” on the following lines: first, second, sixth, sixteenth, seventeenth, and eighteenth line, remove the abbreviation “na⁶” and in its place add (⁷)”.

2. From Footnote “(²)”, remove the text “Aggregated rockfish means rockfish defined at § 679.2 except: in the Southeast Outside District where demersal shelf rockfish (DSR) is a separate category and in the Eastern Regulatory Area where shortraker/rougheye is a separate category for the deep water complex only” and in its place add “Aggregated rockfish means rockfish defined at § 679.2 except: in the Southeast Outside District where demersal shelf rockfish (DSR) is a separate category and in the Eastern Regulatory Area where shortraker/rougheye (SR/RE) rockfish is a separate category for those species marked with a numerical percentage.”

Add footnote “(⁷)” to read “(⁷)” where numerical percentage is not indicated, the retainable percentage of SR/RE is included under Aggregated Rockfish.”

Dated: May 10, 2000.
Penelope D. Dalton,
Assistant Administrator for Fisheries, National Marine Fisheries Service.

[FR Doc. 00-12290 Filed 5-15-00; 8:45 am]

BILLING CODE 3510-22-F